POSTAL REGULATORY COMMISSION

Sunshine Act Meeting

TIME AND DATE: December 7, 2017, at 11 a.m.

PLACE: Commission hearing room, 901 New York Avenue NW., Suite 200, Washington, DC 20268-0001.

STATUS: The Postal Regulatory Commission will hold a public meeting to discuss the agenda items outlined below. Part of the meeting will be open to the public as well as audiocast, and the audiocast may be accessed via the Commission's Web site at http://www.prc.gov. Part of the meeting will be closed.

MATTERS TO BE CONSIDERED: The agenda for the Commission's December 7, 2017 meeting includes the items identified below.

Portions Open to the Public

1. Report from the Office of Public Affairs and Government Relations.

2. Report from the Office of General Counsel.

3. Report from the Office of Accountability and Compliance.

4. Report from the Office of the Secretary and Administration.

5. Commissioners Vote to designate the Vice-Chairman of the Commission for calendar year 2018 pursuant to 39 U.S.C. 502(e).

Portions Closed to the Public

6. Discussion of pending litigation.

CONTACT PERSON FOR MORE INFORMATION: David A. Trissell, General Counsel, Postal Regulatory Commission, 901 New York Avenue NW., Suite 200, Washington, DC 20268-0001, at 202-789-6820 (for agenda-related inquiries) and Stacy L. Ruble, Secretary of the Commission, at 202-789-6800 or stacy.ruble@prc.gov (for inquiries related to meeting location, changes in date or time of the meeting, access for handicapped or disabled persons, the live-webcast, or similar matters). The Commission's Web site may also provide information on changes in the date or time of the meeting.

By direction of the Commission.
Stacy L. Ruble,
Secretary.

[FR Doc. 2017-25461 Filed 11-20-17; 4:15 pm]

BILLING CODE 7710-FW-P